DEPARTMENT OF COMMERCE

Foreign-Trade Zones Board

[Order No. 1922]

Reorganization of Foreign-Trade Zone 52 Under Alternative Site Framework; Suffolk County, New York

Pursuant to its authority under the Foreign-Trade Zones Act of June 18, 1934, as amended (19 U.S.C. 81a-81u), the Foreign-Trade Zones Board (the Board) adopts the following Order:

Whereas, the Board adopted the alternative site framework (ASF) (15 CFR Sec. 400.2(c)) as an option for the establishment or reorganization of zones;

Whereas, Suffolk County, grantee of Foreign-Trade Zone 52, submitted an application to the Board (FTZ Docket B-44-2013, docketed 5-9-2013) for authority to reorganize under the ASF with a service area of portions of Suffolk County, New York, in and adjacent to the JFK Airport Customs and Border Protection port of entry, and FTZ 52's existing Site 1 would be categorized as a magnet site;

Whereas, notice inviting public comment was given in the Federal Register (78 FR 28576-28577, 5-15-2013) and the application has been processed pursuant to the FTZ Act and the Board's regulations; and,

Whereas, the Board adopts the findings and recommendations of the examiner's report, and finds that the requirements of the FTZ Act and the Board's regulations are satisfied;

Now, therefore, the Board hereby orders:

The application to reorganize FTZ 52 under the ASF is approved, subject to the FTZ Act and the Board's regulations, including Section 400.13, and to the Board's standard 2,000-acre activation limit for the zone.

Signed at Washington, DC, this 9th day of 2013.
Paul Piquado,
Assistant Secretary of Commerce for Enforcement and Compliance, Alternate Chairman, Foreign-Trade Zones Board.

[FR Doc. 2013-30107 Filed 12-17-13; 8:45 am]

BILLING CODE 3510-DS-P